DEPARTMENT OF AGRICULTURE

Rural Utilities Service

Fitzgerald Renewable Energy, LLC: Notice of Availability of an Environmental Assessment

AGENCY: Rural Utilities Service, USDA.

ACTION: Notice of Availability of an Environmental Assessment for Public Review.

SUMMARY: The Rural Utilities Service (RUS) has prepared an Environmental Assessment (EA) to meet its responsibilities under the National Environmental Policy Act (NEPA) and 7 CFR part 1794, RUS Environmental Policies and Procedures related to possible financial assistance for a project proposed by Fitzgerald Renewable Energy, LLC (FRE), with headquarters in Winter Park, FL. The proposal consists of the construction of a 55 megawatt (MW) biomass fueled power plant located in Ben Hill County, Georgia on Peachtree Road. FRE is requesting that RUS provide financial assistance for the proposed project. RUS is considering funding this application, thereby making the proposal an undertaking subject to review under section 106 of the National Historic Preservation Act (NHPA), 16 U.S.C. 470(f), and its implementing regulation, “Protection of Historic Properties” (36 CFR part 800).

DATES: Written comments on this Notice must be received on or before June 12, 2009.

ADDRESSES: To obtain copies of the EA or for further information, contact: Stephanie Strength, Environmental Protection Specialist, USDA, RUS, 1400 Independence Avenue, SW., Room 2244, Stop 1571, Washington, DC 20250-1571, or e-mail stephanie.strength@wdc.usda.gov. A copy of the EA may be viewed online at the Agency's Web site: http://www.usda.gov/rus/water/ees/ea.htm, at the Agency's address provided in this Notice, at Fitzgerald Renewable Energy, LLC, 152 Lincoln Avenue, Winter Park, FL 32789, and at the Fitzgerald/Ben Hill County Library, 123 North Main Street, Fitzgerald, GA 31750, Telephone: 229-426-5080. Comments should be submitted to Ms. Strength at the address provided in this Notice.

SUPPLEMENTARY INFORMATION: FRE proposes to construct a 55 MW biomass fueled power plant on an approximately 60 acre site located on Peachtree Road near Fitzgerald, GA in Ben Hill County. The fuel will consist of biomass sources (primarily wood debris or residue from the regional forest products industry). It is anticipated that the facility would be in service in 2011.

A Notice of Intent to Prepare an EA and Hold a Scoping Meeting was published in the Federal Register at 74FR02510, on January 15, 2009, and The Herald-Leader on January 14, 2009. A public meeting was held on January 29, 2009, at the Grand Conference Center, 115 South Main Street in Fitzgerald, GA 31750. A summary of public comments can be found at the Agency Web site listed in this Notice.

As part of its environmental review process, RUS must take into account the effect of the proposal on historic properties in accordance with section 106 of the National Historic Preservation Act and its implementing regulation, “Protection of Historic Properties” (36 CFR part 800). Pursuant to 36 CFR 800.2(d)(3), RUS is using its procedures for public involvement under NEPA to meet is responsibilities to solicit and consider the views of the public during section 106 review. Accordingly, comments from the public submitted in response to scoping will inform RUS decision making in its section 106 review of the proposal. RUS has made the determination that no historic properties listed in or eligible for listing on the National Register of Historic Places (NRHP) will be affected by the Proposal.

Alternatives considered by RUS and FRE include (a) No action, (b) alternate sources of power, and (c) alternate sites. An environmental report that describes the proposal in detail and discusses its anticipated environmental impacts has been prepared by FRE. RUS has reviewed and accepted the document as its EA of the proposal. The EA is available for public review at the addresses provided in this Notice. Questions and comments should be sent to RUS at the mailing or e-mail addresses provided in this Notice. RUS should receive comments on the EA in writing by June 12, 2009 to ensure that they are considered in its environmental impact determination.

Should RUS, based on the EA of the proposal, determine that the impacts of the construction and operation of the proposal would not have a significant environmental impact, it will prepare a Finding of No Significant Impact. Public notification of a Finding of No Significant Impact would be published in the Federal Register and in newspapers with circulation in the proposal area.

Any final action by RUS related to the proposal will be subject to, and contingent upon, compliance with all relevant Federal, State and local environmental laws and regulations, and completion of the environmental review requirements as prescribed in RUS' Environmental Policies and Procedures (7 CFR part 1794).

Dated: May 7, 2009.
Mark S. Plank,
Director, Engineering and Environmental Staff, USDA/Rural Utilities Service.

[FR Doc. E9-11328 Filed 5-14-09; 8:45 am]

BILLING CODE P